NUCLEAR REGULATORY COMMISSION

[Docket No. 72-22]

Private Fuel Storage, Limited Liability Company

Notice of Issuance of Materials License Snm-2513 for the Private Fuel Storage Facility

AGENCY: Nuclear Regulatory Commission.

ACTION: Issuance of Materials License; Termination of NHPA Consultation.

FOR FURTHER INFORMATION CONTACT: Stewart W. Brown, Senior Project Manager, Spent Fuel Project Office, Office of Nuclear Material Safety and Safeguards, U.S. Nuclear Regulatory Commission, Washington, DC 20555. Telephone: (301) 415-8531; fax number: (301) 415-8555; e-mail: swb1@nrc.gov.

SUPPLEMENTARY INFORMATION: The U.S. Nuclear Regulatory Commission (NRC or the Commission) has issued Materials License No. SNM-2513 to Private Fuel Storage, Limited Liability Company (PFS) for the receipt, possession, storage, and transfer of spent fuel at the Private Fuel Storage Facility (PFSF), to be located on the Reservation of the Skull Valley Band of Goshute Indians, in Tooele County, Utah.

In connection with its review of the PFS license application, the NRC, in coordination with three cooperating Federal agencies, developed a final environmental impact statement pursuant to the National Environmental Policy Act of 1969 (NEPA), which was published in December 2001. In addition, the NRC participated in consultations with the three cooperating agencies and other parties concerning the protection of historic and cultural properties which may be impacted by the agencies' proposed actions, in accordance with the National Historic Preservation Act (NHPA) and regulations promulgated by the Advisory Council on Historic Preservation (ACHP). By letter dated November 22, 2005, the NRC notified the ACHP that it was terminating the NHPA consultation process for reasons described in the letter, pursuant to 36 CFR 800.7(a); notice of such termination was also provided to all parties involved in the consultation process. By letter dated January 9, 2006, the ACHP provided its comments in response to the NRC's letter of November 22, 2005. In accordance with 36 CFR 800.7(c)(4), the NRC has considered the ACHP's comments, as set forth in a letter to the ACHP dated February 10, 2006, and has determined that final action on the PFS license application is appropriate.

Accordingly, notice is hereby provided that the NRC has determined to grant the PFS license application, and to issue Materials License No. SNM-2513 to PFS for the PFSF. This Materials License is issued under the provisions of 10 CFR Part 72, and is effective as of the date of issuance. In accordance with 10 CFR Part 72, the PFSF license is issued for a term of 20 years, but the licensee may seek to renew the license prior to its expiration. The license authorizes PFS to provide interim storage in a dry cask storage system for up to 40,000 metric tons of uranium contained in intact spent fuel, damaged fuel assemblies, and fuel debris. The dry cask storage system authorized for use is a site-specific version of the HI-STORM 100 system designed by Holtec International, Inc., as more fully described in Materials License No. SNM-2513.

Background

Following receipt of PFS's application dated June 20, 1997, the NRC staff published a “Notice of Docketing, Notice of Proposed Action, and Notice of Opportunity for a Hearing for a Materials License for the PFSF in the Federal Register on July 31, 1997 (62 FR 41099). In conjunction with the issuance of this license, the staff and three cooperating Federal agencies (Bureau of Land Management, Bureau of Indian Affairs, and Surface Transportation Board) published the “Final Environmental Impact Statement for the Construction and Operation of an Independent Spent Fuel Storage Installation on the Reservation of the Skull Valley Band of Goshute Indians and the Related Transportation Facility in Tooele County, Utah,” NUREG-1714 (December 2001) (FEIS). The FEIS considered the impacts of the construction, operation and decommissioning of the proposed ISFSI at the Skull Valley site and the impacts of certain transportation facilities which had been proposed by PFS. The FEIS indicated that the NRC staff and the three Cooperating Agencies had concluded, in part, that the overall benefits of the proposed PFSF outweigh the disadvantages and cost, and that the measures required by other permitting authorities and the mitigation measures proposed in the FEIS would eliminate or ameliorate any potential adverse environmental impacts associated with the PFS license application.

The safety and security of the proposed PFSF were addressed in a Safety Evaluation Report (SER) issued in December 2000 and two amendments thereto, as reissued in a consolidated SER in March 2002. Evidentiary hearings on the proposed license application were held before an Atomic Safety and Licensing Board in 2000, 2002 and 2004, and final adjudicatory decisions have been issued with respect to all contested issues in the proceeding.

In sum, the NRC has completed its environmental and safety reviews of the PFSF license application. Based on its review of the application and other pertinent information, the NRC issued Materials License No. SNM-2513 for the PFSF on February 21, 2006.

Further details with respect to this action are provided in the application dated June 20, 1997, as amended; the staff's Final Environmental Impact Statement, dated December 2001; the staff's Consolidated Safety Evaluation Report, dated March 5, 2002; Materials License SNM-2513; the NRC's letter to the ACHP dated November 22, 2005; the ACHP's letter dated January 9, 2006; the NRC's letter to the ACHP dated February 10, 2006; and other related documents, which are publicly available in the records component of NRC's Agencywide Documents Access and Management System (ADAMS). These documents may be accessed through the NRC's Public Electronic Reading Room on the Internet at: http://www.nrc.gov/reading-rm/adams.html. These documents may also be viewed electronically on the public computers located at the NRC's Public Document Room (PDR), O1F21, One White Flint North, 11555 Rockville Pike, Rockville, MD 20852. Persons who do not have access to ADAMS or who encounter problems in accessing the documents located in ADAMS, should contact the NRC PDR Reference staff by telephone at 1-800-397-4209 or (301) 415-4737, or by e-mail to pdr@nrc.gov. The PDR reproduction contractor will copy documents for a fee.

Dated at Rockville, Maryland, this 21st day of February, 2006.
For The Nuclear Regulatory Commission.
Stewart W. Brown,
Senior Project Manager, Licensing Section, Spent Fuel Project Office, Office of Nuclear Material Safety and Safeguards.

[FR Doc. E6-2792 Filed 2-27-06; 8:45 am]

BILLING CODE 7590-01-P